DEPARTMENT OF LABOR

Veterans' Employment and Training Service

Request for Information on Black Veterans and Good Jobs

AGENCY: Veterans' Employment and Training Service (VETS), U.S. Department of Labor.

ACTION: Request for information.

SUMMARY: The Department of Labor (DOL or the Department) is seeking information from the public regarding evidence on Black veterans' experience transitioning from military to civilian employment and veterans' access to good jobs and meaningful careers. The Department is publishing this Request for Information (RFI) to gather information to continue its efforts in building a strong knowledge base on the employment outcomes and experiences of Black transitioning service members (TSMs) and veterans to inform and improve veteran policies and programs.

DATES: Comments must be received by August 20, 2024.

ADDRESSES: Respondents are encouraged to submit their comments through one of the methods identified below. Email is the preferred method of submission.

• Email: ORPVETS@dol.gov.

• Postal Mail: Address written submissions to U.S. Department of Labor, Veterans' Employment and Training Service, Office of Research and Policy, Room S-1325, 200 Constitution Ave. NW, Washington, DC 20210.

Submissions by postal mail must be received by the deadline and should allow sufficient time for security processing.

FOR FURTHER INFORMATION CONTACT: Yolanda Peacock, Research Analyst, Veterans' Employment and Training Service, ORPVETS@dol.gov, 202-693-0590.

SUPPLEMENTARY INFORMATION:

I. Background

The mission of the Veterans' Employment and Training Service (VETS) at DOL ¹ is to prepare America's veterans,² service members, and military spouses for meaningful careers, provide them with employment resources and expertise, protect their employment rights, and promote their employment opportunities. VETS' mission is accomplished through two grant programs: the Jobs for Veterans State Grants (JVSG) ³ and Homeless Veterans' Reintegration Program (HVRP),⁴ as well as through the Transition Assistance Program (TAP),⁵ the Employment Navigator & Partnership Program (ENPP),⁶ and the Uniformed Services Employment and Reemployment Rights Act (USERRA).⁷

¹ https://www.dol.gov/agencies/vets.

² Veterans are service members who have served and completed active-duty military service.

³ https://www.dol.gov/agencies/vets/programs/grants/state/jvsg.

⁴ https://www.dol.gov/agencies/vets/programs/hvrp.

⁵ https://www.dol.gov/agencies/vets/programs/tap.

⁶ https://www.dol.gov/agencies/vets/programs/tap/employment-navigator-partnership.

⁷ https://www.dol.gov/agencies/vets/programs/userra.

The JVSG provides federal funding, through a formula grant, to 54 State Workforce Agencies to hire dedicated staff to provide individualized career and training-related services to veterans and eligible persons with significant barriers to employment and to assist employers fill their workforce needs with job-seeking veterans. The HVRP, through a competitive grant, provides services to assist in reintegrating homeless veterans into meaningful employment within the labor force and to stimulate the development of effective service delivery systems that address the complex problems facing homeless veterans.

TAP is a cooperative interagency effort including DOL and the Departments of Defense, Education, Homeland Security, and Veterans Affairs; and the Small Business Administration and the Office of Personnel Management. TAP provides information, tools, and training to ensure service members and their spouses are prepared for the next step in civilian life. The ENPP provides one-on-one career assistance to interested TSMs ⁸ and their spouses at select military installations worldwide. Provided outside of the formal DOL TAP classroom instruction, the Employment Navigator will assist them in securing meaningful and lasting post-separation careers. Finally, USERRA aids those experiencing service-connected problems with their civilian employment, and VETS offers guidance to employers on USERRA regulations. VETS also assists veterans who have questions regarding Veterans' Preference.

⁸ Transitioning Service Members are members of the military who are leaving active duty and returning to civilian life. They may be within 24 months of retirement or 12 months of separation from the military.

II. Black Veterans Research Project

Research indicates that disparities in employment and wages exist both in the general population and within the veteran community, and are influenced by factors such as disability status, gender, location, and race. It has also been observed that certain groups within the military and veteran communities, including individuals of different races and ethnicities, women, individuals with disabilities, and military spouses, have been historically underrepresented in research. In light of this, VETS has undertaken research initiatives focused on various demographic groups. Specifically, VETS has conducted research on military spouses within our Women Veterans ⁹ and Disabled Veterans Programs, and through multiple Customer Experience projects, to identify the unique challenges and disparities faced by different demographic groups. VETS seeks to continue building and using evidence to identify and prioritize opportunities to improve overall support of veterans' employment outcomes and experiences in accordance with Executive Order 13985, Advancing Racial Equity and Support for Underserved Communities Through the Federal Government.¹⁰ To this end, VETS endeavors to better understand variations in employment outcomes and experiences across different subgroups of veterans and build a strong knowledge base regarding underserved communities of veterans to inform and improve veteran policies and programs and improve veterans' access to good jobs.¹¹

⁹ Women Veterans Research U.S. Department of Labor (dol.gov).

¹⁰ https://www.federalregister.gov/documents/2021/01/25/2021-01753/advancing-racial-equity-and-support-for-underserved-communities-through-the-federal-government.

¹¹ https://www.dol.gov/general/good-jobs.

In FY23, in an effort to advance equity in VETS programs, VETS launched its Black Veterans Research Project. This project was launched due to lower economic indicators that are persistent in the Black Veteran community when compared to other racial cohorts and the whole veteran community. This project serves as a model for further research into underserved populations served by VETS programs. This research—conducted in collaboration with DOL's Chief Evaluation Office (CEO)—was the starting point to building a strong knowledge base regarding the employment outcomes and experiences of Black TSMs and veterans. The output from this research includes a literature review and three-part roundtable discussion series. The research shows that there are many commonalities across racial cohorts and that intersectionality ¹² can affect economic outcomes. These artifacts are available for viewing on VETS' Black Veterans Research web page.¹³

¹² “Intersectionality means that people belong to more than one group and, consequently, may experience overlapping health and social inequities and have overlapping strengths and assets related to their group identities or membership.” (The Department of Health and Human Services Evaluation Policy. Office of the Assistant Secretary for Planning and Evaluation, Department of Health and Human Services, 2022).

¹³ https://www.dol.gov/agencies/vets/resources/black-veterans-research.

DOL is committed to developing 21st century employment services that are responsive to the needs of today's veterans. To achieve this, VETS will build on the insights gained from the RFI and the Black Veterans Research Project and incorporate the Good Jobs Principles,¹⁴ a shared federal vision of job quality published in 2022 by the Departments of Labor and Commerce.¹⁵ The Principles describe good-paying jobs that remove barriers to employment for veterans and people of color, among other groups. By assessing the potential of existing programs and services and incorporating the Good Jobs Principles, the aim is to identify the strategies that will have the most significant effect in improving employment opportunities and wage outcomes for underserved groups, including Black veterans.

¹⁴ https://www.dol.gov/general/good-jobs/principles.

¹⁵ https://www.dol.gov/sites/dolgov/files/goodjobs/Good-Jobs-Summit-Principles-Factsheet.pdf.

III. Request for Information

One of the key findings from the literature review is that Black veterans are not a monolithic group; intersectionality is a contributing factor for the Black veteran employment experience. The findings from VETS' Black Veterans Research Project also show that Black veterans seek assistance and support programs at a higher rate while experiencing worse economic and employment outcomes than other veteran subgroups. To further enhance the research, VETS seeks to continue its evidence building efforts by focusing on insights from the public and community at large. Organizations serving veterans, advocacy groups, workforce development and/or job centers (including American Job Centers ¹⁶), businesses and employers, economic development associations, training providers, educational institutions (including Historically Black Colleges and Universities), think tanks, researchers, and other subject matter experts are invited to share their professional and/or research knowledge and experience or any other data and information related to the most effective intervention strategies to improve the employment and wages outcomes of underserved groups, including Black TSMs and veterans. VETS seeks the public's insight to identify how its programs can effectively improve employment and wage outcomes for underserved groups, including Black veterans. VETS is especially interested in comments about outcomes that are aligned with good jobs, as defined by the Good Jobs Principles.

¹⁶ https://www.dol.gov/general/topic/training/onestop.

The literature review identified several factors contributing to differences in employment outcomes experienced by Black veterans. The contributing factors are discrimination; veteran identity and self; military discharge status; social capital of enlisted service members and officers; education/training/pathways/advancement; veteran status and wages; military experience and occupation—transferability to high-demand occupations in the civilian sector; perceived mismatch from military to civilian jobs; and military transition.

VETS seeks to refine its research scope to identify the most immediate employment needs of Black veterans and other intersectional, marginalized demographic groups, as well as interventions that would have the most immediate positive impact on employment and wage outcomes for all underserved groups, including Black veterans. As such, this RFI is designed to capture specific, concise responses optimizing VETS' ability to easily categorize, group, prioritize, sort, and filter responses.

DOL asks commenters to address any or all of the following questions in the context of the preceding discussion in this document. Commenters do not need to address every question and should focus on those that relate to their expertise or perspective. To the extent possible, please clearly indicate the question(s) addressed in your response. Research and evaluation studies, statistical information, training materials, policy statements or reports, or other relevant information may also be included or referenced in responses. Please include hyperlinks if available.

Although not required, the Department would appreciate submissions that include a name, phone number, and email address for a single point of contact, in addition to the organizations, tribes, or other governmental agencies with which respondents are associated. This will allow VETS the opportunity to reach out for any necessary clarifications and streamline communication.

Responses will not be posted publicly, but will be summarized in a report prepared by the Department. Any information submitted in response to the RFI may be releasable pursuant to the provisions of the Freedom of Information Act or other applicable law. For that reason, the Department requests that no business proprietary information, copyrighted information, or personally identifiable information be submitted in response to this RFI.

IV. Questions

1. How does identity intersectionality contribute to the employment outcomes that Black veterans experience and how can services improve and be better marketed to ensure that individuals of all identities and localities have access to opportunity?

2. What can VETS programs do to improve employment and wage outcomes for Black veterans and other intersectional, underserved communities,¹⁷ including job opportunities with the features of Good Jobs described in the Good Jobs Principles? Specifically, what do VETS programs need to do and where should the programs be?

¹⁷ The term “underserved communities” refers to populations sharing a particular characteristic, as well as geographic communities, that have been systematically denied a full opportunity to participate in aspects of economic, social, and civic life. (Executive Order 13985: Advancing Equity and Support for Underserved Communities Through the Federal Government).

3. What are the primary challenges experienced by Black service members that greatly influence their post-military employment prospects?

4. What key moments during the transition from military to civilian life have a significant impact on employment outcomes for Black veterans?

5. What are the most immediate employment needs of Black veterans?

6. How have veterans' benefits programs and other government services affected the successful or unsuccessful obtainment of a good job as described by the Good Jobs Principles? ¹⁸

¹⁸ https://www.dol.gov/general/good-jobs/principles.

7. What are the most effective intervention strategies to improve employment outcomes for Black veterans and other intersectional, underserved communities?

8. How can VETS programs most effectively contribute to improved employment outcomes for Black veterans and other intersectional, underserved communities?

9. Where is the best place to engage with Black veterans and other intersectional, underserved communities and meet their needs?

Signed at Washington, DC, this 13th day of June, 2024.
James D. Rodriguez,
Assistant Secretary for Veterans' Employment and Training Service.

[FR Doc. 2024-13509 Filed 6-20-24; 8:45 am]

BILLING CODE 4510-79-P